DEPARTMENT OF AGRICULTURE

Natural Resources Conservation Service

Prop Canyon Watershed, Site 1 (Big Draw Dam), Cibola County, NM

AGENCY: Natural Resources Conservation Service, USDA.

ACTION: Notice of a Finding of No Significant Impact.

SUMMARY: Pursuant to Section 102 (2) (C) of the National Environmental Policy Act of 1969, the Council on Environmental Quality Regulations (40 CFR part 1500); and the Natural Resources Conservation Service Regulations (7 CFR part 650); the Natural Resources Conservation Service, U. S. Department of Agriculture, gives notice that an environmental impact statement is not being prepared for the Prop Canyon Watershed, Site 1, Grant County, New Mexico.

FOR FURTHER INFORMATION CONTACT: Roger Ford, State Conservation Engineer, Natural Resources Conservation Service, 6200 Jefferson Street, NE., Albuquerque, New Mexico 87109, Telephone 505-761-4430, E-mail roger.ford@nm.usda.gov.

SUPPLEMENTARY INFORMATION: The Environmental Assessment of the federally-assisted action indicates that the project will not cause significant local, regional, or national impacts on the environment. As a result of these findings, Dennis Alexander, State Conservationist, has determined that the preparation and review of an environmental impact statement is not needed for this project.

The project purpose is to improve public safety by reducing the threat of dam failure. The planned works include the installation of a filter, confining berm, restoration of the original dam cross-sectional shape, and the addition of a gravel shell over the dam's slope and crest. The Notice of a Finding of No Significant Impact (FNSI) has been forwarded to the Environmental Protection Agency; various Federal, state, and local agencies; and interested parties. A limited number of copies of the FNSI are available to fill single copy requests at the above address. Basic data developed during the EA are on file and may be reviewed by contacting Roger Ford. No administrative action on implementation of the proposed action will be taken until 30 days after the date of this publication in the Federal Register.

Rosabeth Garcia-Sais,
State Administrative Officer.

[FR Doc. E9-23204 Filed 9-24-09; 8:45 am]

BILLING CODE 3410-16-P